DEPARTMENT OF TRANSPORTATION

National Highway Traffic Safety Administration

49 CFR Part 574

[Docket No. NHTSA-2004-19557]

RIN 2127-AH10

Tire Safety Information; Correction

AGENCY: National Highway Traffic Safety Administration (NHTSA), Department of Transportation.

ACTION: Final rule; correcting amendment.

SUMMARY: On July 8, 1999, the National Highway Traffic Safety Administration (NHTSA) published in the Federal Register (64 FR 36807), a final rule amending the tire identification and recordkeeping regulation, which requires that each tire be labeled with a tire identification number (TIN). In amending the TIN requirements, we inadvertently removed a provision for tires of less than 13 inches bead diameter or those of less than 6 inches cross section width. This document corrects this inadvertent removal.

DATES: Effective December 6, 2004.

FOR FURTHER INFORMATION CONTACT: Mr. George Feygin, Office of Chief Counsel (Telephone: 202-366-2992) (Fax: 202-366-3820), 400 7th, SW., Washington, DC 20590.

SUPPLEMENTARY INFORMATION: NHTSA's tire identification and recordkeeping regulation requires that new tire manufacturers and tire retreaders mark their tires with the TIN on at least one sidewall. The TIN consists of (a) the manufacturer's or retreader's identification code, (b) the tire size symbol, (c) optional tire type code, and (d) the date of the manufacture (date code). On July 8, 1999, NHTSA amended this regulation to require that the date code portion of the TIN consist of four digits, instead of the previously required three digits.¹

¹ See 64 FR 36807.

The change to the TIN requirements necessitated that the figure in the regulatory text depicting the TIN be revised. The old figure contained a footnote that allowed a smaller TIN size for tires of less than 6 inches cross section width and tires of less than 13 inches bead diameter.² However, when the agency published the July 8, 1999, final rule, we inadvertently removed this footnote from the new figure.³ The inadvertent nature of this removal is apparent from the preamble to the Notice of Proposed Rulemaking preceding the July 8, 1999, final rule, and from the preamble to the final rule itself. In both documents, NHTSA reiterated that § 574.5 permits tires of less than 13 inches bead diameter or those of less than 6 inches cross section width to have the smaller TIN size.⁴ This error was brought to our attention by Japan Automobile Tyre Manufacturers Association and Goodyear Tire & Rubber Company.⁵

² See 49 CFR 574.5 (1998).

³ See 64 FR 36807 at 36813.

⁴ See 63 FR 55832 at 55834 (October 19, 1998); see also 64 CFR 36807 at 36810.

⁵ See Docket Numbers NHTSA-2004-17917-8 and NHTSA-2004-17917-9, at http://dms.dot.gov/search/searchFormSimple.cfm.

We note that in a recent document, NHTSA indicated that the TIN size requirements, adopted for other tires subsequent to the July 8, 1999, final rule, apply to tires of less than 13 inches bead diameter or those of less than 6 inches cross section width.⁶ That discussion, which was prepared before we recognized the error made in the July 8, 1999, final rule, is inaccurate. The new TIN size requirements were not intended to apply to tires of less than 13 inches bead diameter or those of less than 6 inches cross section width.

⁶ See 69 FR 31306 at 31309 (June 3, 2004).

This notice corrects the CFR by adding the inadvertently removed footnote to 49 CFR 574.5. Instead of correcting the figure, the agency is adding the contents of the missing footnote to the regulatory text after Section (d).

This correction will not impose or relax any substantive requirements or burdens on manufacturers. Therefore, NHTSA finds for good cause that any notice and opportunity for comment on these correcting amendments are not necessary.

List of Subjects in 49 CFR Part 574

Labeling, Motor vehicle safety, Reporting and recordkeeping requirements, Tires.

49 CFR part 574 is corrected by making the following correcting amendment:

PART 574—[CORRECTED]

1. The authority citation continues to read as follows:

Authority: 49 U.S.C. 322, 30111, 30115, 30117, 30166; delegation of authority at CFR 1.50.

2. Add new paragraph (e) to § 574.5 to read as follows:

§ 574.5 Tire identification requirements.

* * * * *

(e) Tire identification number height. Notwithstanding Figures 1 and 2, each character in the tire identification number on tires with less than 6 inches in cross section width or tires with less than 13 inches bead diameter may be any size of 5/32 inches (4 mm) or greater.

Issued: November 2, 2004.
Stephen R. Kratzke,
Associate Administrator for Rulemaking.

[FR Doc. 04-24774 Filed 11-4-04; 8:45 am]

BILLING CODE 4910-59-P